DEPARTMENT OF ENERGY

Federal Energy Regulatory Commission

[Project No. 9685-030]

Trafalgar Power, Inc.; Ampersand Cranberry Lake Hydro, LLC; Notice of Application for Transfer of License and Soliciting Comments and Motions To Intervene

On December 5, 2014 and supplemented on January 13, 2015, Trafalgar Power, Inc. (transferor) and Ampersand Cranberry Lake Hydro, LLC (transferee) filed an application for transfer of license of the Cranberry Lake Hydroelectric Project, FERC No. 9685. The project is located on the Oswegatchie River in St. Lawrence, County, New York.

The transferor and transferee seek Commission approval to transfer the license for the Cranberry Lake Hydroelectric Project from the transferor to the transferee.

Applicant Contact: For Transferor: Mr. Arthur Steckler, President, Trafalgar Power, Inc., 11010 Lake Grove Blvd., Suite 100, Box 353, Morrisville, NC 27560-7392. For Transferee: Mr. Lutz Loegters, Ampersand Cranberry Lake Hydro LLC, c/o Ampersand Hydro, LLC, 717 Atlantic Avenue, Suite 1A, Boston, MA 02111.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9685-030.

Dated: January 27, 2015.
Kimberly D. Bose,
Secretary.

[FR Doc. 2015-01998 Filed 2-2-15; 8:45 am]

BILLING CODE 6717-01-P